DEPARTMENT OF TRANSPORTATION

Federal Aviation Administration

14 CFR Part 71

[Docket No. FAA-2003-15299; Airspace Docket No. 03-AWP-9]

Modification of Class E Airspace; Window Rock, AZ

AGENCY: Federal Aviation Administration (FAA), DOT.

ACTION: Direct final rule; request for comments.

SUMMARY: An Area Navigation (RNAV) Global Positioning System (GPS) Standard Instrument Approach Procedure (SIAP) RNAV (GPS) Runway (RWY) 02, and an RNAV (GPS)-B SIAP has been developed to serve Window Rock Airport, Window Rock, AZ. This action expands Class E airspace extending upward from 700 feet or more above the surface at Window Rock, AZ to contain aircraft executing these approaches. This action provides controlled airspace for Instrument Flight Rules (IFR) operations.

DATES: This direct final rule is effective on 0901 UTC, September 4, 2003. Comments for inclusion in the Rules Docket must be received on or before July 25, 2003.

ADDRESSES: Send comments on this proposal to the Docket Management System, U.S. Department of Transportation, Room Plaza 401, 400 Seventh Street, SW., Washington, DC 20590-0001. You must identify the docket number FAA-2003-15299/Airspace Docket No. 03-AWP-9, at the beginning of your comments. You may also submit comments on the Internet at http://dms.dot.gov. You may review the public docket containing the proposal, any comments received, and any final dispositions in person in the Docket Office between 9 a.m. and 5 p.m., Monday through Friday, except Federal holidays. The Docket Office (telephone 1-800-647-5527) is on the plaza level of the Department of Transportation NASSIF Building at the above address.

FOR FURTHER INFORMATION CONTACT: Jeri Carson, Air Traffic Division, Airspace Branch, AWP-520, Western-Pacific Region, Federal Aviation Administration, 15000 Aviation Boulevard, Lawndale, California 90261, telephone (310) 725-6611.

SUPPLEMENTARY INFORMATION: This amendment to 14 CFR part 71 modifies the Class E airspace at Window Rock, AZ. An RNAV (GPS) RWY 2 and RNAV (GPS)-B SIAP have been developed to serve Window Rock, AZ. These SIAPs require additional controlled airspace to contain aircraft executing the new approach procedures. This action expands Class E airspace to support Instrument Flight Rules (IFR) operations to Window Rock, AZ. Class E airspace areas extending upward from 700 feet or more above the surface of the earth are published in Paragraph 6005 of FAA Order 7400.9K dated August 30, 2002, and effective September 16, 2002, which is incorporated by reference in 14 CFR 71.1. The Class E airspace designation listed in this document will be published subsequently in the Order.

The Direct Final Rule Procedure

The FAA anticipates that this regulation will not result in adverse or negative comment and therefore is issuing it as a direct final rule. Previous actions of this nature have not been controversial and have not resulted in adverse comments or objections. Unless a written adverse or negative comment, or a written notice of intent to submit an adverse or negative comment is received with in the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Although this action is in the form of a final rule and was not preceded by a notice of proposed rulemaking, comments are invited on this rule. Interested persons are invited to comment on this rule by submitting such written data, views, or arguments as they may desire. Communications should identify the Rules Docket number and be submitted in triplicate to the address specified under the caption ADDRESSES. All communications received on or before the closing date for comments will be considered, and this rule may be amended or withdrawn in light of the comments received. Factual information that supports the commenter's ideas and suggestions is extremely helpful in evaluating the effectiveness of this action and determining whether additional rulemaking action is needed.

Comments are specifically invited on the overall regulatory, economic, environmental, and energy aspects of the rule that might suggest a need to modify the rule. All comments submitted will be available, both before and after the closing date for comments, in the Rules Docket for examination by interested persons. A report that summarizes each FAA-public contact concerned with the substance of this action will be filed in the Rules Docket.

Commenters wishing the FAA to acknowledge receipt of their comments submitted in response to this rule must submit a self-addressed, stamped postcard on which the following statement is made: “Comments to Docket No. 03-AWP-9.” The postcard will be date stamped and returned to the commenter.

Agency Findings

The regulations adopted herein will not have a substantial direct effect on the States, on the relationship between the national government and the States, or on the distribution of power and responsibilities among the various levels of government. Therefore, it is determined that this final rule does not have federalism implications under Executive Order 13132.

The FAA has determined that this regulation is noncontroversial and unlikely to result in adverse or negative comments. For the reasons discussed in the preamble, this regulation only involves an established body of technical regulations that require frequent and routine amendments to keep them operationally current. Therefore, this regulation—(1) is not a “significant regulatory action” under Executive Order 12866; (2) is not a “significant rule” under DOT Regulatory Policies and Procedures (44 FR 11034; February 26, 1979); and (3) if promulgated, will not have a significant economic impact, positive or negative, on a substantial number of small entities under the criteria of the Regulatory Flexibility Act.

List of Subjects 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854; 24 FR 9565, 3 CFR, 1959-1963 Comp., p. 389.

§ 71.1 [Amended]

2. The incorporation by reference in 14 CFR 71.1 of the Federal Aviation Administration Order 7400.9K, dated August 30, 2002, and effective September 16, 2002, is amended as follows:

Paragraph 6005 Class E airspace areas extending upward from 700 feet or more above the surface of the earth.

* * * * *

AWP AZ E5 Window Rock, AZ [Revised]

Window Rock Airport, AZ

(Lat. 35°39′07″ N, long. 109°04′02″ W)

Gallup VORTAC

(Lat. 35°28′34″ N, long. 108°52′21″ W)

That airspace extending upward from 700 feet above the surface within 6.6-mile radius of the Window Rock Airport and within 2.6 miles each side of the Gallup VORTAC 318° radial, extending from the 6.6-mile radius to the Gallup VARTAC and within 4-miles west and 2 miles east of the 214° bearing from the Window Rock airport, extending from the 6.6-mile radius to 13.4 miles southwest of the airport and within 2 miles each side of 004° bearing from the Window Rock Airport, extending from the 6.6-miles radius to 11.7 miles north of the airport and within an area bounded by a line beginning at Lat. 35°38′27″ N, Long. 109°06′37″ W; to Lat. 35°31′07″ N, Long. 108°58′34″ W; to Lat. 35°27′13″ N, Long. 109°04′36″ W; to Lat. 35°25′26″ N, Long. 109°14′07″ W; to lat 35°31′35″ N, Long. 109° 11′00″ W, to the point of beginning. That airspace extending upward from 1,200 feet above the surface bounded by a line beginning at Lat. 35°30′00″ N, Long. 109°17′00″ W; to Lat. 35°28′00″ N, Long. 109°30′00″ W; to Lat. 35°08′00″ N, Long. 109°39′00″ W; to Lat. 35°08′00″ N, Long. 109°25′00″ W; to Lat. 35°20′00″ N, Long. 109°12′00″ W; to the point of beginning and that airspace beginning at Lat. 35°49′30″ N, Long. 109°05′00″ W; to Lat. 36°04′00″ N, Long. 109°27′00″ W; to Lat. 36°07′00″ N, Long. 109°23′00″ W; to Lat. 35°54′00″ N, Long. 109°03′00″ W; to Lat. 35°54′00″ N, Long. 108°43′00″ W; to Lat. 35°51′00″ N, Long. 108°44′00″ W; to Lat. 35°51′30″ N, Long. 108°47′00″ W; to Lat. 35°44′00″ N, Long. 108°51′30″ W, to the point of beginning.

* * * * *

Issued in Los Angeles, California, on June 5, 2003.
John Clancy,
Manager, Air Traffic Division, Western-Pacific Region.

[FR Doc. 03-15526 Filed 6-18-03; 8:45 am]

BILLING CODE 4910-13-M